DEPARTMENT OF DEFENSE

Department of the Army, Corps of Engineers

Intent To Prepare an Integrated Feasibility Study/Environmental Impact Statement for the San Francisquito Creek Flood Risk Management Study, San Mateo and Santa Clara Counties, CA

AGENCY: Department of the Army, U.S. Army Corps of Engineers, DOD.

ACTION: Notice of intent.

SUMMARY: The Department of the Army and the San Francisquito Creek Joint Powers Authority (SFCJPA) hereby give notice of intent to prepare an integrated Feasibility Study/Environmental Impact Statement (FS/EIS) for the San Francisquito Creek Flood Risk Management Project in San Mateo and Santa Clara Counties, CA to consider opportunities to reduce fluvial flooding, to reduce the risk to public safety due to flooding consistent with protecting the Nation's environment, in accordance with national environmental statutes, applicable executive orders, and other Federal planning requirements. The U.S. Army Corps of Engineers (USACE) is the lead agency for this project under NEPA. The SFCJPA is the lead agency for this project under the California Environmental Quality Act (CEQA) and will be preparing a separate Environmental Impact Report (EIR).

DATES: Written comments from all interested parties are encouraged and must be received on or before 5:00 p.m. on February 17, 2017.

ADDRESSES: Written comments and requests for information should be sent to Eric Jolliffe, U.S. Army Corps of Engineers, San Francisco District, 1455 Market St., 17th floor, San Francisco, CA 94103, eric.f.jolliffe@usace.army.mil.

FOR FURTHER INFORMATION CONTACT: Mr. Eric Jolliffe, (415) 503-6869.

SUPPLEMENTARY INFORMATION: The San Francisquito Creek watershed encompasses an area of approximately 45 square miles, extending from the ridge of the Santa Cruz Mountains to San Francisco Bay in California. The majority of the watershed lies in the Santa Cruz Mountains and Bay Foothills northwest of Palo Alto; the remaining 7.5 square miles lie on the San Francisquito alluvial fan near San Francisco Bay.

The San Francisquito Creek watershed contains mainstem San Francisquito Creek and the main tributary streams of West Union Creek, Corte Madera Creek, Bear Creek and Los Trancos Creek. Los Trancos Creek and lower San Francisquito Creek form the boundary between San Mateo and Santa Clara counties. The reaches are divided up as follows: Reach 1 extends from San Francisco Bay to the upstream face of Highway 101; Reach 2 extends from Highway 101 to El Camino Real; Reach 3 continues from El Camino Real to Sand Hill Road; and Reach 4 continues from Sand Hill Road to the ridge of the Santa Cruz Mountains. This FS/EIS will investigate flood risk management solutions related to breakout flow in Reach 2 only. The entire watershed will be considered when developing solutions to address flooding in Reach 2.

The non-Federal sponsor for the Feasibility phase of the study is the SFCJPA. The SFCJPA is comprised of the following member agencies: the City of Palo Alto; the City of Menlo Park; the City of East Palo Alto; the Santa Clara Valley Water District; and the San Mateo County Flood Control District.

1. Background. The carrying capacity of San Francisquito Creek is affected by the presence of development, vegetation, sedimentation, land subsidence, levee settlement, erosion, and culverts and bridges in the project area. Erosion has caused the undermining of roads and structures in many places throughout the watershed. Flooding on San Francisquito Creek affects the cities of Menlo Park and East Palo Alto in San Mateo County, and the city of Palo Alto in Santa Clara County.

Flooding from San Francisquito Creek has been a common occurrence. The most recent flood event occurred in December 2012, and the flood of record occurred in February 1998, when the Creek overtopped its banks in several areas, affecting approximately 1,700 residential and commercial structures and causing more than $26.6 million in property damages. After these floods, the SFCJPA was formed to pursue flood control and restoration opportunities in the area.

The current USACE Feasibility Study is a continuation of the authority passed on May 22, 2002 by the Committee on Transportation and Infrastructure of the United States House of Representatives, which is in accordance with Section 4 of the Flood Control Act of 1941. The resolution reads as follows:

“Resolved by the Committee on Transportation and Infrastructure of the United States House of Representatives, That, the Secretary of the Army, in accordance with Section 4 of the Flood Control Act of 1941, is hereby requested to conduct a study of the Guadalupe River and Tributaries, California, to determine whether flood damage reduction, environmental restoration and protection, storm water retention, water conservation and supply, recreation and other allied purposes are advisable in the interest of the San Francisquito Creek Watershed, including San Francisquito Creek, Santa Clara and San Mateo Counties, California.”

2. Proposed Action. The integrated FS/EIS will consider the environmental impact of potential flood risk management projects with the end goal of reducing flood damage in the San Francisquito Creek Watershed.

3. Project Alternatives. The integrated FS/EIS will include four alternatives.

a. No Action: Alternative 1 is the No Action Plan. With the No Action Plan (which is the “Future Without-Project Condition”), it is assumed that no long-term actions would be taken to reduce flood damage along San Francisquito Creek; flood control improvements would consist of emergency fixes to damage areas, consistent with available funding.

b. Alternative 2 includes replacing bridges and widening channel constriction points to provide additional channel capacity in Reach 2 between Highway 101 and El Camino Real. Under this alternative, bridges and channel constrictions or “bottlenecks” that cause creek flows to back up and rise would be widened to increase channel conveyance and thus reduce water surface elevation. Included in this widening is a proposed project element to align the channel with a CalTrans project to increase flow capacity at Highway 101 and adjacent frontage roads. Impacts from these activities will be evaluated in the FS/EIS.

c. Alternative 3 includes constructing floodwalls along the channel. This Alternative would consider the addition of floodwalls in Reach 2 as a stand-alone measure and in combination with the bridge replacement and channel widening in Alternative 2.

d. Alternative 4 would consider the addition of a bypass culvert as a stand-alone measure and in combination with the bridge replacement and channel widening in Alternative 2. This alternative may include floodwalls, though at a reduced scale compared to Alternative 3. This alternative includes a new bypass inlet located a few hundred feet upstream from University Avenue that would divert high flows to a culvert beneath Woodland Avenue or a street in Palo Alto. A box culvert would follow a roadway in the downstream direction for approximately 1.0 to 1.5 miles to an outlet structure where high flows would be returned to the creek.

4. Environmental Considerations. In all cases, environmental considerations will include riparian habitat, aquatic habitat, sediment budget, fish passage, recreation, public access, aesthetics, cultural resources, and environmental justice as well as other potential environmental issues of concern.

5. Scoping Process. The USACE and SFCJPA are seeking input from interested federal, state, and local agencies, Native American representatives, and other interested private organizations and parties through provision of this notice and holding of a scoping meeting. The purpose of this meeting is to solicit input regarding the environmental issues of concern and the alternatives that should be discussed in the integrated FS/EIS. The public scoping meeting will be held on January 18, 2017 at 6:30 p.m. at the Laurel School Upper Campus, 275 Elliott Drive in Menlo Park, CA.

6. Availability of integrated FS/EIS. The public will have an additional opportunity in the NEPA process to comment on the proposed alternatives after the draft integrated FS/EIS is released to the public in 2017. It is being issued pursuant to section 102(2)(c) of the National Environmental Policy Act (NEPA) of 1969 as implemented by the Council on Environmental Quality regulations (40 CFR parts 1500-1508).

John C. Morrow,
Lieutenant Colonel, Corps of Engineers District Engineer.

[FR Doc. 2016-30985 Filed 12-22-16; 8:45 am]

BILLING CODE 3720-58-P